DEPARTMENT OF HEALTH AND HUMAN SERVICES

Administration for Children and Families

Submission for OMB Review; Comment Request

Title: Guidance for the Tribal Assistance For Needy Families Program.

OMB No: 0970-0157.

Description: 42 U.S.C. 612 (Section 412 of the Social Security Act—the Act—as amended by Pub. L. 104-193, The Personal Responsibility and Work Opportunity Reconciliation Act of 1996—PRWORA) gives Federally recognized Indian Tribes “* * * with an approved plan * * *” the opportunity to administer a Tribal Temporary Assistance for Needy Families (Tribal TANF) program. This document provides guidance to Tribes seeking to develop a plan which may be approved.

Respondents: American Indian Tribes that want to establish and administer their own TANF program.

Annual Burden Estimates
Instrument | Number of respondents | Number of responses per respondent | Average burden hours per response | Total burden hours
Guidance for Tribal Assistance for Needy Families Program | 20 | 1 | 54 | 1,080
Estimated Total Burden |  |  |  | 1,080

Additional Information

Copies of the proposed collection may be obtained by writing to The Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 27, 2001.
Bob Sargis,
Reports Clearance Officer.

[FR Doc. 01-5234 Filed 3-2-01; 8:45 am]

BILLING CODE 4184-01-M